POSTAL SERVICE

Mailing Cremated Remains

AGENCY: Postal Service ™.

ACTION: Notice of prospective revision of standards; invitation to comment.

SUMMARY: The Postal Service is proposing to amend Hazardous, Restricted, and Perishable Mail, Publication 52, in various sections to require markings on mailpieces containing cremated remains, to eliminate the use of USPS-produced Priority Mail Express® labels for domestic shipments, and to limit the use of additional mailing services.

DATES: Submit comments on or before October 17, 2019.

ADDRESSES: Mail or deliver written comments to the manager, Product Classification, U.S. Postal Service, 475 L'Enfant Plaza SW, Room 4446, Washington, DC 20260-5015. If sending comments by email, include the name and address of the commenter and send to ProductClassification@usps.gov, with a subject line of “Mailing Cremated Remains.” Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC, 20260. These records are available for review on Monday through Friday, 9 a.m.—4 p.m., by calling 202-268-2906.

FOR FURTHER INFORMATION CONTACT: Karen F. Key at (202) 268-7492 or

Garry Rodriguez at (202) 268-7281.

SUPPLEMENTARY INFORMATION: The Postal Service is proposing to amend Publication 52 in various sections to:

1. Require the use of Label 139, Cremated Remains, on all domestic or international mailpieces containing cremated remains.

2. Eliminate the use of Labels 11-B, 11-F, and 11-HFPU, for domestic shipments containing cremated remains.

3. Limit the additional mailing services for mailpieces containing cremated remains to insurance and return receipt.

Background

Publication 52 subsection 451.22 provides that a mailpiece containing cremated remains (human or animal) must be shipped by Priority Mail Express or Priority Mail Express International® Service.

Publication 52 subsection 451.22b provides that the contents, cremated remains, must be indicated on the applicable customs declaration when addressed to an international destination. However, as provided in subsections 451.22a and 451.22b, markings including the use of Label 139 are optional on both domestic and international mailpieces.

Mailing Standards of the United States Postal Service, Domestic Mail Manual (DMM®) section 115.2.0, provides that domestic Priority Mail Express customers have the option to use a USPS-provided Priority Mail Express label (11-B, 11-F, 11-HFPU) or single-ply Priority Mail Express label generated through Click-N-Ship® or other USPS-approved method.

DMM subsection 503.1.4.1, provides that mailpieces sent at Priority Mail Express prices are eligible to have Adult Signature Services, Collect on Delivery, additional insurance, and return receipt services added.

Domestic Mail Manual section 507.3.0 provides that mailpieces sent at Priority Mail Express prices are eligible for Hold For Pickup service.

Proposal

To increase the visibility of mailpieces containing cremated remains to postal employees and to ensure those mailpieces are more secure for processing and timely delivery, the Postal Service is proposing to require the use of Label 139 to be affixed to each side (including top and bottom) of a Priority Mail Express or Priority Mail Express International mailpiece containing cremated remains (USPS-produced or customer supplied). As an alternative, the Postal Service is introducing a special Priority Mail Express cremated remains branded box (BOX-CRE) that may be used for domestic or international shipments of cremated remains. The new Priority Mail Express cremated remains branded box will be available as part of a kit that will be offered in two versions. One kit will contain the box and a roll of tape. The other kit will include the box, a self-sealing plastic bag, bubble wrap, tape, and Publication 139, How to Package and Ship Cremated Remains. Both kits can be ordered online at the Postal Store on USPS.com®.

To improve service, the Postal Service is proposing to provide an option for retail customers to present a mailpiece containing cremated remains at a Post Office™ location and have a shipping label printed and affixed. Customers will continue to have the option to use a single-ply Priority Mail Express label generated through Click-N-Ship or other USPS-approved method. If customers generate a single-ply label, the Postal Service is proposing to require an Intelligent Mail® package barcode (IMpb®) shipping label with the appropriate service type code and banner text above the barcode (see Publication 199) used for cremated remains domestic shipments. The shipping services file must include the appropriate cremated remains three-digit Extra Service Code for domestic and international shipments (see Publication 199). The use of a Priority Mail Express Label 11-B, 11-F, and 11-HFPU, will no longer be accepted for cremated remains domestic shipments.

As a result of improving service with the new shipping label requirements, the Postal Service is proposing to limit the extra services available when mailing cremated remains to additional insurance and return receipt, and proposes to eliminate the option to use Hold For Pickup service. Customers will continue to have the option to request a signature.

In addition, the Postal Service will update Mailing Standards of the United States Postal Service, Domestic Mail Manual (DMM®) and International Mail Manual (IMM®), and Publication 139, How to Package and Ship Cremated Remains, under separate cover.

The proposed revisions will enable the Postal Service to provide an improved customer experience from sender to receiver.

Brittany M. Johnson,
Attorney, Federal Compliance.

[FR Doc. 2019-20009 Filed 9-16-19; 8:45 am]

BILLING CODE 7710-12-P